DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. chap. 35).

Agency: United States Patent and Trademark Office (USPTO).

Title: Post Allowance and Refiling.

Form Number(s): PTO/SB/44/50/51/51S/52/53/56 and PTOL-85B.

Agency Approval Number: 0651-0033.

Type of Request: Revision of a currently approved collection.

Burden: 124,359 hours annually.

Number of Respondents: 217,184 responses per year.

Avg. Hours per Response: The USPTO estimates that it will take the public from approximately 12 minutes (0.20 hours) to 5 hours to gather the necessary information, prepare the appropriate form or other documents, and submit the information in this collection to the USPTO.

Needs and Uses: The USPTO is required by 35 U.S.C. 131 and 151 to examine applications and issue them as patents when appropriate. The applicant must then pay the required issue fee to receive the patent and avoid abandonment of the application. The public uses this information collection to pay fees for issuing patents, to request corrections of errors in issued patents, and to apply for reissue patents. This collection previously included information requirements related to patent reexaminations. These items are being removed from this collection and were approved by OMB in February 2010 as a separate new collection, 0651-0064 Patent Reexaminations.

Affected Public: Individuals or households; businesses or other for-profits; and not-for-profit institutions.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: InformationCollection@uspto.gov. Include “0651-0033 copy request” in the subject line of the message.

• Fax: 571-273-0112, marked to the attention of Susan K. Fawcett.

• Mail: Susan K. Fawcett, Records Officer, Office of the Chief Information Officer, United States Patent and Trademark Office, P.O. Box 1450, Alexandria, VA 22313-1450.

Written comments and recommendations for the proposed information collection should be sent on or before August 16, 2010 to Nicholas A. Fraser, OMB Desk Officer, via e-mail to Nicholas_A._Fraser@omb.eop.gov, or by fax to 202-395-5167, marked to the attention of Nicholas A. Fraser.

Susan K. Fawcett,
Records Officer, USPTO, Office of the Chief Information Officer.

[FR Doc. 2010-17367 Filed 7-15-10; 8:45 am]

BILLING CODE 3510-16-P